SMALL BUSINESS ADMINISTRATION

[Disaster Declaration #12049 and #12050]

Maryland Disaster Number MD-00011

AGENCY: U.S. Small Business Administration.

ACTION: Amendment 1.

SUMMARY: This is an amendment of the Presidential declaration of a major disaster for Public Assistance Only for the State of MARYLAND (FEMA-1875-DR), dated 02/19/2010.

Incident: Severe Winter Storm and Snowstorm

Incident Period: 12/18/2009 through 12/20/2009

DATES: Effective Date: 04/09/2010.

Physical Loan Application Deadline Date: 04/20/2010.

Economic Injury (EIDL) Loan Application Deadline Date: 11/19/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Maryland, dated 02/19/2010, is hereby amended to include the following areas as adversely affected by the disaster.

Primary Counties: Anne Arundel, Charles, Talbot, and the Independent City of Baltimore.

All other information in the original declaration remains unchanged.

(Catalog of Federal Domestic Assistance Numbers 59002 and 59008)

James E. Rivera,
Associate Administrator for Disaster Assistance.

[FR Doc. 2010-8848 Filed 4-16-10; 8:45 am]

BILLING CODE 8025-01-P